DEPARTMENT OF JUSTICE

Notice of Lodging of Settlement Agreements in In re EaglePicher Holdings, Inc., Under The Comprehensive Environmental Response Compensation and Liability Act (CERCLA)

Notice is hereby given that on June 30, 2006, four proposed Settlement Agreements were filed with the United States Bankruptcy Court for the Southern District of Ohio in In re EaglePicher Holdings, Inc., No. 05-12601 (Bankr. S.D. Ohio.). The Settlement Agreements among the United States on behalf of U.S. EPA, the States of Michigan, Oklahoma, Illinois, and Kansas, and Debtor EaglePicher Holdings, Inc., and its affiliated Debtors resolve CERCLA claims as provided in the Settlement Agreements for the following facilities: Miami, Oklahoma; Hockerville, Oklahoma; Galena, Kansas; Baxter Springs, Kansas; Columbus, Kansas; Galena, Illinois; 215 and 221 Industrial Drive, Hillsdale, Michigan; South Street, Hillsdale, Michigan; Inkster, Michigan; and River Rouge, Michigan.

Under each of the Settlement Agreements, a custodial trust will be created to fund the clean up of the properties listed above. Under the Oklahoma Settlement Agreement, the custodial trust will be funded in the amount of $705,000 for the Miami and Hockerville Sites. Under the Michigan Settlement Agreement, the custodial trust will be funded in the amount of $2,400,000 for the cleanup of the facilities located in the Hillsdale and in the amount of $2,200,000 for the cleanup of the Inkster and River Rouge sites. Under the Kansas Settlement Agreement, funding in the amounts of $6,560,000, $349,000 and $282,000 are to be placed in the custodial trust for the Galena, Baxter Springs and Columbus Sites respectively. Under the Illinois Settlement, funding in the amount of $1,150,000 is to be placed in the custodial trust for the Galena, Illinois facility.

The Department of Justice will receive for a period of fourteen (14) days from the date of this publication comments relating to the Settlement Agreement. Comments should be addressed to the Assistant Attorney General of the Environment and Natural Resource Division, Department of Justice, P.O. Box 7611, Washington, DC 20044-7611, and should refer to In re EaglePicher Holdings, Inc., DJ No. 90-11-3-747/2.

The proposed consent decree may be examined at the office of the United States Attorney for the Southern District of Ohio; and at U.S. EPA, Ariel Rios Building, 1200 Pennsylvania Avenue, NW., Washington, DC 20460. During the public comment period, the consent decree may also be examined on the following Department of Justice Web site, http://www.usdoj.gov/enrd/open.html. Copies of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, please refer to the referenced case and enclose a check in the amount of $26.25 for the Kansas Settlement Agreement; $24.75 for the Oklahoma Settlement Agreement; $26.75 for the Michigan Settlement Agreement; and $24.75 for the Illinois Settlement Agreement, (25 cents per page reproduction costs) payable to the U.S. Treasury for the consent decree in In re EaglePicher Holdings, Inc., DJ No. 90-11-3-747/2.

Bruce S. Gelber,
Section Chief, Environmental Enforcement Section, Environment and Natural Resources Division.

[FR Doc. 06-6049 Filed 7-6-06; 8:45 am]

BILLING CODE 4410-15-M